DEPARTMENT OF ENERGY

Federal Energy Regulatory Commission

Combined Notice of Filings #1

Take notice that the Commission received the following electric rate filings:

Docket Numbers: ER10-1819-032; ER10-1817-025; ER10-1818-028; ER10-1820-035.

Applicants: Northern States Power Company, a Wisconsin corporation, Public Service Company of Colorado, Southwestern Public Service Company, Northern States Power Company, a Minnesota corporation.

Description: Notice of Change in Status of Northern States Power Company, a Minnesota corporation, et al.

Filed Date: 3/3/22.

Accession Number: 20220303-5248.

Comment Date: 5 p.m. ET 3/24/22.

Docket Numbers: ER10-2783-017; ER10-2264-009; ER10-2359-010; ER10-2798-016; ER10-2799-016; ER10-2878-016; ER10-2879-016; ER10-2960-013; ER10-2969-017; ER18-2418-005; ER21-2423-004; ER21-2424-004.

Applicants: Generation Bridge M&M Holdings, LLC, Generation Bridge Connecticut Holdings, LLC, Great River Hydro, LLC, Oswego Harbor Power LLC, Astoria Generating Company, L.P., Montville Power LLC, Middleton Power LLC, Devon Power LLC, Connecticut Jet Power LLC, Sunrise Power Company, LLC, Long Beach Generation LLC, Arthur Kill Power LLC.

Description: Notice of Change in Status of Arthur Kill Power LLC, et al.

Filed Date: 3/3/22.

Accession Number: 20220303-5241.

Comment Date: 5 p.m. ET 3/24/22.

Docket Numbers: ER10-2794-035; ER12-1825-033; ER14-2672-020.

Applicants: EDF Energy Services, LLC, EDF Industrial Power Services (CA), LLC, EDF Trading North America, LLC.

Description: Notice of Change in Status of EDF Trading North America, LLC, et al.

Filed Date: 3/3/22.

Accession Number: 20220303-5245.

Comment Date: 5 pm ET 3/24/22.

Docket Numbers: ER11-2375-002.

Applicants: Consolidated Edison Company of New York, Inc.

Description: Notice of Non-Material Change in Status of Consolidated Edison Company of New York, Inc.

Filed Date: 3/3/22.

Accession Number: 20220303-5247.

Comment Date: 5 p.m. ET 3/24/22.

Docket Numbers: ER11-2753-008; ER12-1316-007.

Applicants: Silver State Solar Power North, LLC, Cedar Point Wind, LLC.

Description: Notice of Non-Material Change in Status of Cedar Point Wind, LLC, et al.

Filed Date: 3/3/22.

Accession Number: 20220303-5246.

Comment Date: 5 p.m. ET 3/24/22.

Docket Numbers: ER14-2140-012; ER14-2141-012; ER14-2465-014; ER14-2466-014; ER14-2939-011; ER15-632-013; ER15-634-013; ER15-1952-010; ER15-2728-013.

Applicants: Maricopa West Solar PV, LLC, Pavant Solar LLC, Cottonwood Solar, LLC, CID Solar, LLC, Imperial Valley Solar Company (IVSC) 2, LLC, RE Camelot LLC, RE Columbia Two LLC, Selmer Farm, LLC, Mulberry Farm, LLC.

Description: Notice of Non-Material Change in Status of CID Solar, LLC, et al.

Filed Date: 3/3/22.

Accession Number: 20220303-5244.

Comment Date: 5 p.m. ET 3/24/22.

Docket Numbers: ER17-1742-000; ER20-2510-000; ER13-2490-003; ER19-2671-000; ER19-2672-000; ER20-2512-000; ER20-2515-000; ER19-2595-000; ER19-2670-000; ER20-2663-000; ER17-311-000; ER20-1073-000; ER21-2408-000; ER21-2409-000; ER21-2407-000; ER21-2406-000; ER21-2638-000; ER17-1742-004; ER20-2510-002; ER13-2490-008; ER19-2671-003; ER19-2672-003; ER20-2512-002; ER20-2515-002; ER19-2595-003; ER19-2670-003; ER20-2663-002; ER17-311-004; ER20-1073-002; ER21-2408-001; ER21-2409-001; ER21-2407-001; ER21-2406-001; ER21-2638-001.

Applicants: SR Perry, LLC, Lancaster Solar LLC, SR Georgia Portfolio II Lessee, LLC, SR Snipesville II, LLC, SR Lumpkin, LLC, SR Terrell, LLC, SR South Loving LLC, SR Snipesville, LLC, SR Meridian III, LLC, SR Hazlehurst III, LLC, SR Georgia Portfolio I MT, LLC, SR Baxley, LLC, SR Arlington II MT, LLC, SR Arlington II, LLC, Simon Solar, LLC, Odom Solar LLC, Hattiesburg Farm, LLC.

Description: Notice of Change in Status of Hattiesburg Farm, LLC, et al.

Filed Date: 3/3/22.

Accession Number: 20220303-5242.

Comment Date: 5 p.m. ET 3/24/22.

Docket Numbers: ER18-140-008; ER11-3406-008; ER11-3407-008; ER12-1865-009; ER12-1923-007; ER12-1925-007; ER20-3036-001; ER20-3037-001.

Applicants: Vopak Industrial Infrastructure Americas St. Charles, LLC, Vopak Industrial Infrastructure Americas Plaquemine, LLC, Patton Wind Farm, LLC, Big Savage, LLC, Mustang Hills, LLC, Howard Wind LLC, Highland North LLC, Lackawanna Energy Center LLC.

Description: Notice of Change in Status of Lackawanna Energy Center LLC, et al.

Filed Date: 3/3/22.

Accession Number: 20220303-5249.

Comment Date: 5 p.m. ET 3/24/22.

Docket Numbers: ER21-1915-001.

Applicants: Big Sky Wind, LLC.

Description: Notice of Change in Status of Big Sky Wind, LLC.

Filed Date: 3/3/22.

Accession Number: 20220303-5243.

Comment Date: 5 p.m. ET 3/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2022.
Debbie-Anne A. Reese,
Deputy Secretary.

[FR Doc. 2022-05167 Filed 3-10-22; 8:45 am]

BILLING CODE 6717-01-P